DEPARTMENT OF ENERGY

Federal Energy Regulatory Commission

[Docket No. RP03-564-001]

Dominion Cove Point LNG, LP; Notice of Tariff Filing

August 29, 2003.

Take notice that on August 27, 2003, Dominion Cove Point LNG, LP (Cove Point) tendered for filing as part of its FERC Gas Tariff, Original Volume No. 1, the following tariff sheets, with an effective date of September 10, 2003:

First Revised Sheet No. 213

Substitute First Revised Sheet No. 283

Cove Point states that the purpose of this filing is to supplement its August 11, 2003 filing, which would allow Cove Point the opportunity to charge Negotiated Rates for its transportation, peaking and LNG tanker discharging services. In this supplemental filing, Cove Point has clarified that for purposes of bidding for available firm service and capacity allocation it will treat customers paying for service at a negotiated rate higher than the maximum rate as if they have paid the maximum rate. Also, Cove Point clarified that its NPV calculation will only include revenues generated by the reservation charge or other form of revenue guarantee.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Protest Date: September 8, 2003.

Magalie R. Salas,
Secretary.

[FR Doc. 03-22727 Filed 9-5-03; 8:45 am]

BILLING CODE 6717-01-P